DEPARTMENT OF HEALTH AND HUMAN SERVICES

Centers for Disease Control and Prevention

[Program Announcement 01143]

HIV/AIDS Surveillance, Prevention and Medical Support and Treatment in the Socialist Republic of Vietnam; Notice of Availability of Funds

A. Purpose

The Centers for Disease Control and Prevention (CDC) announces the availability of fiscal year (FY) 2001 funds for a cooperative agreement with the Vietnam Ministry of Health's (MOH) National AIDS Standing Bureau (NASB) for improvement, expansion and evaluation of HIV/AIDS and, as relevant, other emerging infections surveillance, prevention and medical support and treatment in Vietnam.

The United States Government (USG) seeks to reduce the impact of HIV/AIDS in specific countries with sub-Saharan Africa, Asia and the Americas through its Leadership and Investment in Fighting an Epidemic (LIFE) initiative. To carry out this initiative, CDC has organized its Global AIDS Program (GAP) to strengthen capacity and expand activities in the areas of (1) HIV prevention; (2) HIV care, support and treatment; and (3) capacity and infrastructure development, especially for HIV/AIDS surveillance activities.

Targeted countries represent those with the most severe epidemics and the highest number of new infections. They also represent countries where the potential for impact is greatest and where U.S. Government agencies are already active. Vietnam is one of these targeted countries.

As a key partner in the USG LIFE Initiative, CDC is working in a collaborative manner with national governments and other agencies to develop programs of assistance to address the HIV/AIDS epidemics in LIFE Initiative countries. In particular, CDC's mission in Vietnam is to strengthen and make more effective the HIV prevention and medical support and treatment efforts to prevent HIV infection and associated illness and death from AIDS. CDC is also planning to increase its support for assessment and research efforts in Vietnam for tuberculosis (TB), sexually transmitted infections (STI) and other emerging infections.

B. Eligible Applicants

Assistance will be provided only to the MOH, which will provide the funding to the NASB or other designated agency depending on the program goal (e.g., NITBRP, NIDV, NIHE, etc.). The MOH and its agencies are the only appropriate and qualified organizations to conduct a specific set of activities supportive of the CDC Global AIDS Program and its emerging diseases program in Vietnam because:

1. The MOH is uniquely positioned, in terms of legal authority and credibility among Vietnamese citizens, to collect crucial data on HIV/AIDS prevalence and incidence, as well as other health information, among Vietnamese citizens.

2. The MOH already has established mechanisms to access health information, enabling it to immediately become engaged in the activities listed in this announcement.

3. The purpose of this announcement is to build upon the existing framework of health information and activities that the MOH itself has collected or initiated.

4. The MOH has been mandated by the National Assembly of Vietnam to coordinate and implement activities necessary for the control of epidemics, including HIV/AIDS, TB, STI and other emerging infections.

C. Availability of Funds

Approximately $2,250,000 is available in 2001 to fund this agreement. Of the $2,250,000, approximately $2,000,000 will be for HIV/AIDS and approximately $250,000 for TB and emerging infections. It is expected that the awards will begin on or about September 30, 2001 and will be made for a 12-month budget period within a project period of five years. Annual funding estimates may change. Continuation of awards within the approved project period will be made on the basis of satisfactory progress as evidenced by required reports and the availability of funds.

Use of Funds

Antiretroviral Drugs

Funds received from this announcement will not be used for the purchase of antiretroviral drugs for treatment of established HIV infection (with the exception nevirapine in PMTCT cases and with prior written approval), occupational exposures, and non-occupational exposures and will not be used for the purchase of machines and reagents to conduct the necessary laboratory monitoring for patient care.

Applicants may contract with other organizations under these cooperative agreements, however, applicants must perform a substantial portion of the activities (including program management and operations and delivery of prevention services for which funds are requested.

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

Needle Exchange

No funds appropriated under this Act shall be used to carry out any program of distributing sterile needles or syringes for the hypodermic injection of any illegal drug.

D. Where To Obtain Additional Information

This and other CDC announcements can found on the CDC home page internet address—http://www.cdc.gov. Click on “Funding” then “Grants and Cooperative Agreements.”

If you have any questions after reviewing the contents of all the documents, business management technical assistance may be obtained from: Dorimar Rosado, Grants Management Specialist, Grants Management Branch, Procurement and Grants Office, Centers for Disease Control and Prevention, Room 3000, 2920 Brandywine Road, Atlanta, GA 30341-4146, Telephone: (770)-488-2782, E-mail: dpr7@cdc.gov.

For program technical assistance, contact: Gary West, MPA, Deputy Director, Global AIDS Program, National Center for HIV, STD and TB Prevention, Centers for Disease Control and Prevention, 1600 Clifton Road, NE, Mailstop E-41, Telephone: (404) 639-4268 E-mail: Gwest@cdc.gov

Dated: July 19, 2001.
John L. Williams,
Director, Procurement and Grants Office, Centers for Disease Control and Prevention (CDC).

[FR Doc. 01-18465 Filed 7-24-01; 8:45 am]

BILLING CODE 4163-18-P